NATIONAL SCIENCE FOUNDATION

Notice of Permit Applications Received Under the Antarctic Conservation Act of 1978 (Pub. Law 95-541)

AGENCY: National Science Foundation.

ACTION: Notice of Permit Applications Received under the Antarctic Conservation Act of 1978, Pub. L. 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 19, 2005. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application No. 2206-021

1. Applicant: Mahion C. Kennicutt II, Director of Sustainable Development, Office of the Vice President for Research, 1112 Texas A&M University, College Station, TX 77843-1112.

Activity for Which Permit is Requested: Enter Antarctic specially Protected Areas. The applicant proposes to enter the following protected sites: Cape Evans (ASPA #154), and Arrival Heights (ASPA #122) to collect soil samples and permafrost measurements. These sites are specifically targeted because of the nature of their geology, climatic influences, and topography. One site, Cape Evans, has been chosen as a reference control area for the study of temporal and spatial scales of various types of disturbances in and around McMurdo Station. Arrival Heights has been sampled in past field seasons and is slated to be sampled as part of the ongoing environmental monitoring program.

Location: Cape Evans (ASPA #154) and Arrival Heights (ASPA #122).

Dates: November 21, 2005 to December 31, 2005.

Permit Application No. 2002-007 Mod. 1

Applicant: Rennie S. Holt, Director, U.S. AMLR Program, Southwest Fisheries Science Center, National Marine Fisheries Service, 8604 La Jolla Shores Drive, La Jolla, CA 92038.

Activity for Which Permit is Requested: Take and Import into the U.S. The applicant proposes to inject doubly labeled water (DLW) into 15 female adult Fur seals and 30 pups annually and collect blood samples to measure the maternal energy expenditure during the perinatal period and measure milk intake in pups throughout the attendance period. Studies of the energetics of lactating Antarctic fur seals and their pups will provide a better understanding of their role in the coastal marine ecosystems of South Shetland Islands and the potential impact of commercial krill fisheries.

The applicant also proposes to salvage dead specimens from pinniped and cetacean species found opportunistically on the beaches or washed ashore. All specimens will be inventoried with the AMLR Program in La Jolla, California.

Location: South Shetland Islands vicinity. Cape Shirreff, Livingston Island (including San Telmo Islands).

Date: November 15, 2005 to June 1, 2007.

Permit Application No. 2006-022

3. Applicant: Molly F. Miller, Department of Earth/Environmental Sciences, 35-0117, Vanderbilt University, 2301 Vanderbilt Place, Nashville, TN 37235.

Activity for which Permit is Requested: Enter Antarctic Specially Protected Area. The applicant proposes to enter just inside the boundaries of the Barwick Valley Antarctic Specially Protected Area (ASPA #123) to search for in situ fossils and use them and characteristics of the surrounding sedimentary rocks to constrain the environmental and climate conditions. The project plans to test models of climate change during the Permian-Triassic and evaluate the effects of the climate change on diverse components of the ecosystem.

Location: Barwick and Balham Valleys (ASPA #123).

Dates: October 1, 2005 to February 28, 2007.

Nadene G. Kennedy,
Permit Officer, Office of Polar Programs.

[FR Doc. 05-18572 Filed 9-16-05; 8:45 am]

BILLING CODE 7555-01-M